DEPARTMENT OF HOUSING AND URBAN DEVELOPMENT

[Docket No. FR-4455-C-04]

Notice of Annual Factors for Determining Public Housing Agency Ongoing Administrative Fees for the Housing Choice Voucher Program and the Rental Certificate and Moderate Rehabilitation Programs; Technical Correction

AGENCY: Office of the Assistant Secretary for Public and Indian Housing, HUD.

ACTION: Notice; technical corrections.

SUMMARY: This notice corrects an incorrect date that appeared in the notice published on May 22, 2000.

EFFECTIVE DATE: June 30, 2000.

FOR FURTHER INFORMATION CONTACT: Gerald J. Benoit, Director, Real Estate and Housing Performance Division, Office of Public and Assisted Housing Delivery, Office of Public and Indian Housing, Department of Housing and Urban Development, Room 4210, 451 Seventh Street, SW, Washington, DC 20410-8000; telephone number (202) 708-0477 (this is not a toll-free telephone number). Hearing or speech impaired individuals may access this number via TTY by calling the toll-free Federal Information Relay Service at 1-800-877-8339.

SUPPLEMENTARY INFORMATION: This notice corrects an incorrect date that appeared in the notice published on May 22, 2000 (65 FR 32116). The primary purpose of the May 22, 2000 notice was to transmit changes to the monthly Administrative Fee Amounts of certain areas listed in the Federal Register notice published on February 25, 2000 (65 FR 10316). These changes were necessary to correct a computer programming error that caused a small reduction in the fees for certain areas listed in the February 25, 2000 notice.

The May 22, 2000 notice, however, also contained an error. This notice referred to the “merger date” of the Housing Choice Voucher Program as October 1, 1998 (see 65 FR 32116, third column). The merger date is October 1, 1999. Through publication of this notice, HUD acknowledges this error and advises that the correct “merger date” is October 1, 1999.

Dated: June 23, 2000.
Gloria Cousar,
Deputy Assistant Secretary for Public and Assisted Housing Delivery.

[FR Doc. 00-16529 Filed 6-29-00; 8:45 am]

BILLING CODE 4210-33-P